DEPARTMENT OF TRANSPORTATION

Pipeline and Hazardous Materials Safety Administration

Hazardous Materials: Actions on Special Permit Applications

AGENCY: Office of Hazardous Materials Safety, Pipeline and Hazardous Materials Safety Administration (PHMSA), DOT.

ACTION: Notice of actions on special permit applications.

SUMMARY: In accordance with the procedures governing the application for, and the processing of, special permits from the Department of Transportation's Hazardous Material Regulations (49 CFR part 107, subpart B), notice is hereby given of the actions on special permits applications in (October to October 2014). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on May 5, 2015.
Donald Burger,
Chief, Special Permits and Approvals Branch.

S.P. No. | Applicant | Regulation(s) | Nature of special permit thereof
MODIFICATION SPECIAL PERMIT GRANTED
13961-M | 3AL Testing Corp., Centennial, CO | 49 CFR 172.203(a), 172.301(c), 180.205(f) and (g), 180.209(a) | To modify the special permit to authorize ultrasonic equipment and with a five sensor head with sensors positioned to perform all required straight and angle beam examinations in a single pass.
13220-M | Entegris Inc., Danbury, CT | 49 CFR 173.301; 173.302; 173.304; 173.315 | To modify the special permit to authorize additional hazardous materials.
11914-M | Cascade Designs, Inc., Seattle, WA | 49 CFR 173.304(d)(3)(iii); 178.33 | To modify the special permit to authorize 16 oz. camping fuel canisters.
15773-M | Roche Molecular Systems, Inc., Branchburg, NJ | 49 CFR 173.242(e)(1) | To modify the special permit to authorize bulk packaging.
11911-M | Transfer Flow, Inc., Chico, CA | 49 CFR 177.834(h), and 178.700(c)(1) | To modify the special permit to remove the requirement that the discharge outlet is at the highest point of the tank.
NEW SPECIAL PERMIT GRANTED
16181-N | Arc Process, Inc., Austin, TX | 49 CFR 178.50(e) | To authorize the manufacture, marking, sale and use of certain non-DOT specification cylinders similar to a DOT 4B except for the valve protection ring. (modes 1, 2, 3, 4)
16288-N | CE Kellogg Co. Inc., Vancouver, WA | 49 CFR 107.503(b), 107.503(c), 173.241, 173.242, 173.243 | To authorize the manufacture, mark, sale and use of a non-DOT specification glass fiber reinforced plastic (FRP) cargo tank similar to a DOT Specification 407/412. (mode 1)
16275-N | ThyssenKrupp Bilstein of America, Inc., Hamilton, OH | 49 CFR 173.306(f)(2) | To authorize the transportation in commerce of accumulators meeting the requirements of § 173.306(f)(2) except that the charge pressure may exceed 200 psig and the initial pressure test is waived. (modes 1, 2)
16390-N | J.R. Helicopters LLC, Yakima, WA | 49 CFR 172.101 Hazardous Materials Table Column (9B), 172.200, 172.204(c)(3), 172.301(c), 173.27(b)(2), 175.30(a)(1), 175.75 | To authorize the transportation in commerce of certain hazardous materials by 14 CFR part 133 Rotorcraft External Load Operations transporting hazardous materials attached to or suspended from an aircraft, in remote areas of the U.S. only, without being subject to hazard communication requirements, quantity limitations and certain loading and stowage requirements. (mode 4)
16377-N | BASF Corporation, Florham Park, NJ | 49 CFR 173.315(a)(1), 173.315(a)(2) | To authorize the transportation in commerce of certain non-DOT specification spherical pressure vessels containing boron trifluoride. (modes 1, 2, 3)
EMERGENCY SPECIAL PERMIT GRANTED
16343-N | Digital Wave Corporation, Centennial, CO | 49 CFR 180.205(g) | To extend the service life of certain permitted cylinders by certifying them by an alternative retest. (modes 1, 2, 3, 4, 5)
16375-N | Kalitta Charters, LLC, Ypsilanti, MI | 49 CFR 175.700(b)(2)(ii), 175.702(b) | To authorize the carriage of radioactive materials aboard cargo aircraft when the combined transport index exceeds the authorized limit of 200 per aircraft or the separation distance criteria of § 175.702(6) cannot be met. (mode 4)
16437-N | U.S. Department of Justice, Bureau of Alcohol, Tobacco, Firearms and Explosives (ATF), Washington, DC | 49 CFR 173.56(b), and 172.320 | An emergency special permit to authorize the one-way transportation in commerce of unapproved fireworks for use in a research testing project. (mode 1)
16447-N | Kalitta Air, LLC, Ypsilanti, MI | 49 CFR 172.101 Column (9B), 172.204(c)(3), 173.27(b)(2) and (3) and 175.30(a)(1) | To authorize the one-time transportation in commerce of certain explosives that are forbidden for transportation by cargo only aircraft. (mode 4)
16449-N | Conoco Phillips Alaska, Inc., Anchorage, AK | 49 CFR 172.101 Hazardous Materials Table Column (9B) and 173.315 | To authorize the transportation in commerce of nitrogen, refrigerated liquid, in non-DOT specification vacuum insulated portable tanks manufactured under a current DOT special permit and certain hazardous materials in packagings that exceed the quantity limit for cargo carrying aircraft. (mode 4)
NEW SPECIAL PERMIT WITHDRAWN
16422-N | Wisconsin Central Ltd., Homewood, IL | 49 CFR 174.85 | To authorize the positioning of placarded cars without a buffer car. (mode 2)
16441-N | Pace Air Freight, Plainfield, IN | 49 CFR 173.196, 173.199, 178.609 | To authorize the the transportation in commerce of certain Division 6.2 hazardous materials in specialized freezers. (mode 1)
16444-N | Motorola Solutions UK Limited, Basingstoke, Hants RG22 4PD | 49 CFR 173.185(f) | To authorize the transportation in commerce of damaged lithium ion batteries in alternative packagings. (modes 1, 3)
DENIED
16304-N | Request by GO Global Enterprizes LLC Phoenix, AZ April 24, 2015. To authorize the manufacture, mark, sale and use of alternative packaging for Ebola contaminated waste.

[FR Doc. 2015-11827 Filed 5-20-15; 8:45 am]

BILLING CODE 4909-40-M